DEPARTMENT OF HEALTH AND HUMAN SERVICES

Administration for Children and Families

[OMB #0970-0198]

Proposed Information Collection Activity; Child Care and Development Fund Plan for Tribes for FY 2023-2025 (ACF-118A)

AGENCY: Office of Child Care; Administration for Children and Families; HHS.

ACTION: Request for public comment.

SUMMARY: The Administration for Children and Families (ACF) is requesting a 3-year extension of the form ACF-118A: Child Care and Development Fund for Tribes (OMB #0970-0198, expiration 06/30/2022) for FFY 2023-2025. There are changes requested to the form to improve formatting, and clarify and streamline questions. ACF is also requesting public comment on revising the thresholds used to determine tribes with small, medium, and large allocations.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. All requests should be identified by the title of the information collection.

SUPPLEMENTARY INFORMATION: Description: The Child Care and Development Fund (CCDF) Plan (the Plan) for Tribes is required from each CCDF Lead Agency in accordance with section 658E of the Child Care and Development Block Grant Act of 1990 (CCDBG Act), as amended, CCDBG Act of 2014 (Pub. L. 113-186), and 42 U.S.C. 9858. The Plan, submitted on the ACF-118A, is required triennially, and remains in effect for 3 years. The Plan provides ACF and the public with a description of and assurance about the tribes' child care programs. These Plans are the applications for CCDF funds.

ACF is also seeking public comment on whether and how to adjust the thresholds used to determine allocation sizes for Tribal Lead Agencies. We differentiate and exempt some Tribal Lead Agencies from a progressive series of CCDF provisions based on three categories of CCDF grant allocations—large, medium, and small. However, the current thresholds were set based on FFY 2016 allocations. Since then, the amount annually appropriated to Tribal Lead Agencies has increased more than threefold and ACF is considering adjusting the thresholds accordingly.

Respondents: Tribal CCDF lead agencies.

Annual Burden Estimates
Instrument | Total number of respondents | Total number of responses per respondent | Average burden hours per response | Total burden hours | Annual burden hours
ACF-118A Part I (for all tribes) | 260 | 1 | 120 | 31,200 | 10,400
ACF-118A Part II (for medium and large tribes only) | 106 | 1 | 24 | 2,544 | 848

Estimated Total Annual Burden Hours: 11,248.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 113-186 and 42 U.S.C. 9858c.

Mary B. Jones,
ACF/OPRE Certifying Officer.

[FR Doc. 2021-22456 Filed 10-14-21; 8:45 am]

BILLING CODE 4184-43-P